DEPARTMENT OF DEFENSE

Department of the Navy

[Docket ID: USN-2024-HQ-0012]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received October 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Marine Corps Installations Pacific School Visit Program Application; MCIPAC-MCBB Form 5726/1; OMB Control Number 0712-SVPA.

Type of Request: New.

Number of Respondents: 15.

Responses per Respondent: 1.

Annual Responses: 15.

Average Burden per Response: 1 hour.

Annual Burden Hours: 15.

Needs and Uses: Information collection via the MCIPAC-MCBB Form 5726/1, “School Visit Program Application,” is necessary to allow local Japanese students to request to visit Marine Corps Bases in Okinawa. The information will be used as part of the school visit program to tailor the specific needs of students when visiting U.S. bases. The form is prepared by the MCIPAC-MCBB, G-7 School Visit Program Manager and filled out by the requesting school's staff facilitators.

The MCIPAC-MCBB G-7 facilitates a school visit program for Host Nation Japanese school students. The program is designed to allow school age children an opportunity to experience American culture and familiarize themselves with the mission of the U.S. Military. School administrators contact the G-7 to start the application process. Administrators are sent the PDF School Visit Program Application form via email and may complete it electronically or print it out to fill in the required information. Most respondents complete the form electronically and return it via email. In all other cases, the form is hand-delivered to the G-7 office. The successful effect of the information collection is the facilitation of a school visit that is tailored to the needs and desires of the school administrators and students.

Affected Public: Business or other for-profit; individuals or households.

Frequency: On occasion.

Respondent's Obligation: Voluntary.

DOD Clearance Officer: Mr. Reginald Lucas.

Dated: September 11, 2025.
Stephanie J. Bost,
Alternate OSD Federal Register Liaison Officer, Department of Defense.

[FR Doc. 2025-17830 Filed 9-15-25; 8:45 am]

BILLING CODE 6001-FR-P